DEPARTMENT OF COMMERCE

National Oceanic and Atmospheric Administration

50 CFR Part 665

[I.D. 112006J]

Western Pacific Fishery Management Council; Public Meetings

AGENCY: National Marine Fisheries Service (NMFS), National Oceanic and Atmospheric Administration (NOAA), Commerce.

ACTION: Notice of public meeting and public hearing.

SUMMARY: The Western Pacific Fishery Management Council (Council) will hold its 136th meeting to consider and take action on pending recommendations regarding a request to longline fish within the Main Hawaiian Islands longline exclusion zone, addition of Heterocarpus shrimps to the appropriate Western Pacific Council fishery management plan and several issues concerning the harvest of precious corals in the Main Hawaiian Islands. The Council will also hold a public hearing during this 136th Council meeting.

DATES: The 136th Council meeting and public hearing will be held at 2 PM (Hawaii Standard Time) on Thursday, December 21, 2006 (Friday December 22 in Guam and the Northern Mariana Islands). For specific dates, times and locations of the public hearing, and the agenda for the 136th Council meeting, see SUPPLEMENTARY INFORMATION.

ADDRESSES: The 136th Council meeting and public hearing will be held at the Council's office, 1164 Bishop Street, Suite 1400, Honolulu, HI 96813. For participants residing in American Samoa, the Northern Mariana Islands, Hawaii and the continental United States, the 136th Council meeting telephone conference call-in-number is: 1-888-482-3560; Access Code: 5228220. For Guam and international participants, the call-in-number is: 1-647-723-3959; Access Code: 5228220.

FOR FURTHER INFORMATION CONTACT: Kitty M. Simonds, Executive Director; telephone: (808) 522-8220; fax: (808) 522-8226.

SUPPLEMENTARY INFORMATION:

136th Council Meeting Agenda

Thursday, December 21, 2006, 2 p.m. Hawaii Standard Time

1. Introductions

2. Approval of Agenda

3. Fishing within the Main Hawaiian Islands longline exclusion zone

4. Addition of Heterocarpus shrimps to the appropriate Western Pacific Council fishery management plan

5. Precious coral harvesting around the Main Hawaiian Islands

i. Redefinition of the Auau Channel black coral maximum sustainable yield (MSY) as 75 percent of current MSY estimate

ii. Prohibition on the harvest of gold coral in the Main Hawaiian Islands

iii. Creation of a limited entry program for harvesting of Main Hawaiian Islands black coral.

6. Public Hearing

7. Council Discussion and Action

8. Other Business

Background Information

Fishing within the Main Hawaiian Islands longline exclusion zone: The Council has received a request from a Hawaiian fisherman to be allowed to use a limited amount (7 miles) of old-fashioned “basket-style” longline gear within the 25-75 nautical mile longline exclusion zone around the Main Hawaiian Islands (MHI). At its 135th meeting the Council directed its staff to draft an options paper to explore the potential for an exemption for the applicant from the current regulations for longline fishing around Hawaii, for Council review before the end of 2006. The Council will consider these options, which include no action, the potential granting of a permit through the Council's Community Development Program, or the granting of an ad-hoc exemption from the longline permit or closed area regulations governing longline fishing around the MHI. The Council may take action and recommend a preferred alternative or suggest other alternatives for consideration.

Addition of Heterocarpus shrimps to the appropriate fishery management plan(s): A fishery for deepwater shrimp (Heterocarpus laevigatus and Heterocarpus ensifer) occurs in waters off of Hawaii and other areas of the Pacific. These fisheries are sporadic with vessels fishing for one to two years followed by a five to seven year hiatus. Hawaii data is currently captured by the State of Hawaii through its Commercial Marine Landings Catch Reports. The deepwater shrimp, however, are not currently managed under any fishery management plan. At its 135th meeting, the Council recommended that Heterocarpus species be added to the appropriate management plan(s) as a Management Unit Species in order to improve monitoring throughout the Western Pacific Region and allow management of this fishery. The Council may take action on this issue at its 136th meeting.

Precious coral harvesting around the Main Hawaiian Islands: At its 135th meeting, the Council directed staff to prepare an options paper regarding the redefinition of the MSY for the black coral fishery in the Auau Channel from 5,000 to 3,750 kg. per year. The Council also directed staff to prepare an options paper regarding a potential moratorium on the harvest of gold coral, both live and dead. The Council further directed staff to investigate the creation of a limited access program for the MHI black coral fishery.

At its 136th meeting, the Council will review the various alternatives and options presented on these issues and may take action on the preferred alternatives for precious coral management in the Main Hawaiian Islands

Although non-emergency issues not contained in this agenda may come before the Council for discussion, those issues may not be the subject of formal Council action during its 136th meeting. Council action will be restricted to those issues listed in this document and any issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: November 27, 2006.
Alan D. Risenhoover,
Director, Office of Sustainable Fisheries, National Marine Fisheries Service.

[FR Doc. E6-20380 Filed 11-30-06; 8:45 am]

BILLING CODE 3510-22-S